DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on a proposed continuing information collection. In accordance with the Paperwork Reduction Act of 1995 (44 U.S.C. 3506(c)(2)(A)), this notice seeks comments on the Exemption of State-Owned Properties Under Self-Insurance Plan.

SUPPLEMENTARY INFORMATION: 44 CFR part 75 establishes standards with respect to the Federal Insurance Administrator's (FIA) determinations, that a State's plan of self-insurance is adequate and satisfactory for the purposes of the Act, from the requirement of purchasing flood insurance coverage for State-owned structures and their contents in areas identified by the Administrator as A, AO, AH, A1-A30, AE, A99, M, V, VO, V1-V30 and E zones, in which the sale of insurance has been made available. It also establishes the procedures by which a State may request exemption under Section 102 C of the Act.

Collection of Information

Title: Exemption of State-Owned Properties Under Self-Insurance Plan.

Type of Information Collection: Extension of a currently approved collection.

OMB Number: 1660-0013.

Form Numbers: None.

Abstract: The application for exemption is made to the Federal Insurance Administration by the Governor or other duly authorized official of the State accompanied by sufficient supporting documentation which certifies that the plan of self-insurance upon which the application for exemption is based meets or exceeds the standards set forth in 44 CFR section 75.11. Upon determining that the State's plan of self-insurance equals or exceeds the standards, the Administrator then certifies that the State is exempt from the requirements for the purchase of flood insurance for State-owned structures and their contents.

Affected Public: Individuals or households; Business or other for-profit; Not-for-profit institutions; Farms; Federal Government: State, Local or Tribal Government.

Estimated Total Annual Burden Hours: 100.

FEMA forms | No. of respondents | Frequency of response | Burden hours per response | Annual responses | Total annual burden hours
| (A) | (B) | (C) | (A×B) | (A×B×C)
Letter application | 20 | 1 | 5 | 20 | 100
Total | 20 | 1 | 5 | 20 | 100

Estimated Cost: Combined cost all respondents is $15,500 or $155.00 per respondent.

Comments

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Chief, Records Management Section, Information Resources Management Branch, Information Technology Services Division, Federal Emergency Management Agency, Emergency Preparedness and Response Directorate, Department of Homeland Security, 500 C Street, SW., Room 316, Washington, DC 20472.

FOR FURTHER INFORMATION CONTACT: You may contact Ms. Mary Ann Chang, Insurance Examiner, Federal Insurance Administration, (202) 646-2790. For copies of the proposed collection of information contact the Records Management Section at (202) 646-3347 or e-mail address: FEMA-Information-Collections@dhs.gov.

Dated: October 20, 2005.
George S. Trotter,
Acting Branch Chief, Information Resources Management Branch, Information Technology Services Division.

[FR Doc. 05-21508 Filed 10-27-05; 8:45 am]

BILLING CODE 9110-11-P